SECURITIES AND EXCHANGE COMMISSION

[File No. 500-1]

Ocean Resources, Inc., Officeland, Inc., Online Gaming Systems Ltd. (n/k/a: Advanced Resources Group Ltd.), Open EC Technologies, Inc., and OVM International Holding Corp.; Order of Suspension of Trading

August 19, 2008.

It appears to the Securities and Exchange Commission that there is a lack of current and accurate information concerning the securities of Ocean Resources, Inc. because it has not filed any periodic reports since the period ended December 31, 2004.

It appears to the Securities and Exchange Commission that there is a lack of current and accurate information concerning the securities of Officeland, Inc. because it has not filed any periodic reports since the period ended August 31, 2000.

It appears to the Securities and Exchange Commission that there is a lack of current and accurate information concerning the securities of Online Gaming Systems Ltd. (n/k/a Advanced Resources Group Ltd.) because it has not filed any periodic reports since the period ended December 31, 2006.

It appears to the Securities and Exchange Commission that there is a lack of current and accurate information concerning the securities of Open EC Technologies, Inc. because it has not filed any periodic reports since the period ended May 31, 2002.

It appears to the Securities and Exchange Commission that there is a lack of current and accurate information concerning the securities of OVM International Holding Corp. because it has not filed any periodic reports since the period ended September 30, 2002.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 19, 2008, through 11:59 p.m. EDT on September 2, 2008.

By the Commission.
Florence E. Harmon,
Acting Secretary.

[FR Doc. E8-19493 Filed 8-19-08; 11:15 am]

BILLING CODE 8010-01-P